DEPARTMENT OF COMMERCE

National Oceanic and Atmospheric Administration

RIN 0648-XV047

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Committee to consider actions affecting New England fisheries in the exclusive economic zone (EEZ). Recommendations from this group will be brought to the full Council for formal consideration and action, if appropriate.

DATES: This meeting will be held on Wednesday, September 18, 2019 at 1 p.m.

ADDRESSES: The meeting will be held at the Comfort Inn, 85 American Legion Highway, Revere, MA 02151; telephone: (781) 485-3600.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will discuss the Plan Development Team analysis and draft Framework Adjustment 12 (FW 12) alternatives including recommendations for the Monkfish Allowable Biological Catch (ABC) for Northern and Southern Fishery Management areas, and associated effort controls. They will select preferred alternatives for FW 12. The panel also plans to review findings and recommendations from the Research Set-Aside (RSA) Program Review and identify which issues the Council should consider further. Also on the agenda is to discuss recommendations for the Council to consider for 2020 priorities for the Monkfish FMP. The Council is scheduled to have an initial discussion of potential 2020 priorities at the September Council meeting. They will also receive an update on the Commercial Electronic Vessel Trip Reporting (eVTR) Omnibus Framework, which proposes to implement electronic VTRs for all vessels with commercial permits for species managed by the Mid-Atlantic and New England Fishery Management Councils. There is also a closed session for committee members only to review Monkfish Advisory Panel applications for 2020-22 and provide recommendations. Other business may be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: August 26, 2019.
Tracey L. Thompson,
Acting Deputy Director, Office of Sustainable Fisheries, National Marine Fisheries Service.

[FR Doc. 2019-18661 Filed 8-28-19; 8:45 am]

BILLING CODE 3510-22-P